DEPARTMENT OF JUSTICE

Immigration and Naturalization Service

[INS No. 2248-02]

Notice Designating Additional Ports-of-Entry for Departure of Aliens Who Are Subject to Special Registration

AGENCY: Immigration and Naturalization Service, Justice.

ACTION: Notice.

SUMMARY: On August 12, 2002, the Attorney General published a final rule in the Federal Register at 67 FR 52584, to revise the special registration requirements for nonimmigrant aliens whose presence in the United States requires closer monitoring. The final rule requires that when a nonimmigrant alien subject to special registration departs from the United States, he or she must report to an Immigration and Naturalization Service (Service) inspecting officer at any port-of-entry (POE), unless the Service has, by publication in the Federal Register, specified that nonimmigrant aliens subject to special registration may not depart from specific POEs. The requirement for an alien subject to special registration to report to the Service prior to departing the United States became effective on October 1, 2002.

On September 30, 2002, the Service published a notice in the Federal Register at 67 FR 61352 listing POEs through which nonimmigrant aliens who have been specially registered may depart from the United States. This notice provides the public with an expanded list of ports through which nonimmigrant aliens who have been specially registered may depart from the United States. This list is provided in the affirmative as a list of approved POEs to assist the public.

DATES: This notice is effective March 3, 2003.

FOR FURTHER INFORMATION CONTACT: Stephen M. Dearborn, Assistant Chief Inspector, Immigration and Naturalization Service, 425 I Street, NW., Room 4064, Washington, DC 20536, telephone number: (202) 305-2970.

SUPPLEMENTARY INFORMATION:

Nonimmigrant Aliens Subject to Special Registration Requirements

Effective September 11, 2002, the Service regulations at 8 CFR 264.1(f) provide that nonimmigrant aliens (other than those applying under section 101(a)(15)(A), or (G) of the Immigration and Nationality Act (Act) (8 U.S.C. 1101(a)(15)(A), (G)) who meet certain criteria are subject to special registration, photographing and fingerprinting requirements. If a nonimmigrant alien who is registered, photographed, and fingerprinted upon arrival in the United States remains in the United States 30 days or more, he or she must report in person to a Service office to provide additional documentation that confirms that he or she is complying with the terms of his or her admission. Whether registered upon arrival in the United States or notified via publication in the Federal Register to report to a Service office for registration subsequent to admission, nonimmigrant aliens who are subject to special registration must be interviewed annually. Upon each change of address and where applicable, each change of educational institution or employment, a special registrant who remains in the United States for 30 days or more must also notify the Service within 10 days of such change.

Beginning on October 1, 2002, when a nonimmigrant alien subject to special registration departs the United States, he or she is required to report to an inspecting officer at the POE through which the alien is departing unless the Service has specified in a Federal Register notice that certain POEs may not be used for departure by special registrants. A nonimmigrant alien, subject to special registration, who fails to report his or her departure to an inspecting officer as required, may thereafter be presumed to be inadmissible to the United States.

On September 30, 2002, the Service published a notice in the Federal Register notifying the public that not all ports may be used for departure by special registrants. In addition, the notice designated those POEs that could be used for final registration and departure by nonimmigrant aliens who are subject to special registration. The purpose of this notice is to expand the list of POEs that may be used for departure by special registrants.

Ports-of-Entry Which Are Not Authorized for the Departure of Nonimmigrant Aliens Subject to Special Registration

Nonimmigrant aliens who are subject to special registration may not depart the United States from any POE listed in, or regarded as designated by 8 CFR 100.4(c)(2), or (c)(3), or any other point-of-embarkation, other than those listed below.

Ports-of-Entry Designated for Final Registration and Departure by Nonimmigrant Aliens Subject to Special Registration

The following POEs are specifically designated for final registration and departure by nonimmigrant aliens subject to special registration. Nonimmigrant aliens subject to special registration may not be examined by the Service and depart the United States through any location other than those listed below. On March 3, 2003 those POEs identified with an asterisk below, will be authorized to provide final registration and departure by nonimmigrant aliens subject to special registration. The other POEs listed without the asterisks were designated on October 1, 2002, and will continue to process special registrants for final registration and departure.

Amistad Dam POE, Texas;

Alcan POE, Alaska;

Anchorage International Airport, Alaska;

Atlanta Hartsfield International Airport, Georgia;

Baltimore-Washington International Airport, Maryland;

Bell Street Pier 66 (Seattle) Cruise Ship Terminal, Washington;

Bridge of the Americas POE, Texas;

Brownsville/Matamoros POE, Texas;

Buffalo Peace Bridge POE, New York;

Cape Vincent POE, New York;

Calexico POE, California;

Calais POE, Maine;

Cape Canaveral Seaport, Florida;

Chicago Midway Airport, Illinois;

Chicago O'Hare International Airport, Illinois;

Champlain POE, New York;

Charlotte International Airport, North Carolina;

Chateaugay POE, New York;

Cleveland International Airport, Ohio;

Columbus POE, New Mexico;

Dallas/Fort Worth International Airport, Texas;

Del Rio International Bridge POE, Texas;

Denver International Airport, Colorado;

Derby Line POE, Vermont;

Detroit International (Ambassador) Bridge POE, Michigan;

Detroit Canada Tunnel, Michigan;

Detroit Metro Airport, Michigan;

Douglas POE, Arizona;

Eagle Pass POE, Texas;

Eastport POE, Idaho;

Fort Covington POE, New York;

Fort Duncan Bridge POE, Texas;

Galveston POE, Texas;

Grand Portage POE, Minnesota;

Guam International Airport;

Heart Island POE, New York;

Hidalgo POE, Texas;

Highgate Springs POE, Vermont;

Honolulu International Airport, Hawaii;

Honolulu Seaport, Hawaii;

Houlton POE, Maine;

Houston George Bush Intercontinental Airport, Texas;

Houston Seaport, Texas;

International Falls POE, Minnesota;

John F. Kennedy International Airport, New York;

Ketchikan Seaport, Alaska;

Kona International Airport and Seaport, Hawaii;

Gateway to the Americas Bridge POE, Laredo, Texas;

Las Vegas (McCarran) International Airport, Nevada;

Lewiston Bridge POE, New York;

Logan International Airport, Massachusetts;

Long Beach Seaport, California;

Los Angeles International Airport, California;

Madawaska POE, Maine;

Miami International Airport, Florida;

Miami Marine Unit, Florida;

Minneapolis/St. Paul International Airport, Minnesota;

Mooers POE, New York;

Niagara Falls, Rainbow Bridge, New York;

Newark International Airport, New Jersey;

Nogales POE, Arizona;

Ogdensburg POE, New York;

Orlando, Florida;

Oroville POE, Washington;

Otay Mesa POE, California;

Pacific Highway POE, Washington;

Pembina POE, North Dakota;

Philadelphia International Airport, Pennsylvania;

Phoenix (Sky Harbor) International Airport, Arizona;

Piegan POE, Montana;

Pittsburgh International Airport, Pennsylvania;

Point Roberts POE, Washington;

Port Everglades Seaport, Florida;

Port Arthur POE, Texas;

Port Huron POE, Michigan;

Portal POE, North Dakota;

Portland International Airport, Oregon;

Progreso Bridge POE, Texas;

Raymond POE, Montana;

Roosville POE, Montana;

Rouses Point POE, New York;

San Antonio International Airport, Texas;

San Diego (Lindbergh Field) International Airport, California;

San Diego Seaport, California;

San Francisco International Airport, California;

San Juan International Airport and Seaport, Puerto Rico;

Sanford International Airport, Florida;

Sault St. Marie POE, Michigan;

Seattle Seaport, Washington;

Seaway International Bridge/Massena POE, New York;

Seattle-Tacoma International Airport, Washington;

St. Louis International Airport (Lambert Field), Missouri;

St. Thomas Seaport, U.S. Virgin Islands;

Sweetgrass POE, Montana;

Tampa International Airport and Seaport, Florida;

Thousand Islands POE, New York;

Trout River POE, New York

Washington Dulles International Airport, Virginia; and

Ysleta POE, Texas

Notice of Where To Report for Final Registration and Departure

Upon registration, whether registered at a POE upon admission to the United States or at a Service office subsequent to admission, each nonimmigrant alien subject to special registration will be issued an information packet that will list each POE authorized for departue and other instructions on how to comply with 8 CFR 264.1. This packet will also contain specific information regarding hours of operation, directions and contact numbers.

Due to the limited availability of current resources, specifically departure staff and facilities, the Service must limit the POEs authorized for departure registration to effectively capture departure data. As more POEs become available to examine special registrants upon departure, the Service will designate the POEs by notice in the Federal Register and make the list available at Service offices and on its Web site at http://www.ins.usdoj.gov.

Dated: January 31, 2003.
Michael J. Garcia,
Acting Commissioner, Immigration and Naturalization Service.

[FR Doc. 03-4130 Filed 2-18-03; 8:45 am]

BILLING CODE 4410-10-P